DEPARTMENT OF AGRICULTURE

Forest Service

McKelvie Geographic Area Rangeland Allotment Management Plans on National Forest System Lands on the Samuel R. McKelvie National Forest, Bessey Ranger District in Nebraska

AGENCY: Forest Service, USDA.

ACTION: Second revised notice of intent to prepare an environmental impact statement.

SUMMARY: This project would revise Rangeland Allotment Management Plans (RAMP) for all allotments within the McKelvie Geographic Area on the McKelvie National Forest and analyze continuation of grazing within the constraints of the Revised Nebraska Land and Resource Management Plan (NLRMP). A Notice of Intent (NOI) for this project was published May 15, 2006 (71 No. 93 FR 27986). More than six months have elapsed since the projected draft environmental impact statement (DEIS) date in that original NOI. This revised NOI is being issued to update the project schedule.

DATES: Comments will be accepted concerning the scope of the analysis and must be received within 30 days after publication of this NOI in the Federal Register. The Notice of Availability of the DEIS is expected to be published in the Federal Register approximately March 2009.

ADDRESSES: Send written comments to: Michael E. Croxen, Interdisciplinary Team Leader, USDA Forest Service, P.O. Box 39, Halsey, Nebraska 69142.

FOR FURTHER INFORMATION CONTACT: Michael E. Croxen, Interdisciplinary Team Leader, USDA Forest Service, P.O. Box 39, Halsey, Nebraska 69142. Phone (308) 533-2257.

SUPPLEMENTARY INFORMATION:

Purpose and Need for Action: The purpose of the environmental impact statement is to determine current conditions, analyze environmental consequences of actions to those conditions, and assist the decision maker in selecting management/monitoring strategies consistent with meeting desired conditions in the NLRMP. The need for the action is to ensure that authorized uses and associated management activities move towards or maintaining desired NLRMP conditions.

Proposed Action: The Bessey Ranger District proposes to implement best management practices and activities with adaptive management and monitoring strategies to ensure compliance between current conditions and NLRMP desired conditions on the McKelvie Geographic Area.

Other Possible Alternatives: Other possible alternatives that would be considered for analysis include a No-Action Alternative (to not change current permitted uses) and a No-Grazing Alternative (to eliminate any grazing on the project area).

Issues: What grazing strategies will maintain or move desired conditions toward NLRMP goals and objectives, and how will these grazing strategies impact permitted livestock grazers (permittees)?

Responsible Official: Patricia D. Barney, District Ranger, Bessey Ranger District, P.O. Box 39, Halsey, Nebraska 69142.

Nature of Decision To Be Made: The decision to be made is whether or not to continue permitted uses within the McKelvie Geographic Area. If uses are permitted, then adaptive management strategies and monitoring will be identified to ensure compliance with desired NLRMP conditions.

Public Scoping Process: Comments and input regarding this proposal were requested from the public, other groups and agencies via direct mailing on May 19, 2006. Additional comments were solicited during a public open house June 6, 2006 held in Valentine, Nebraska. With this revised NOI, comments will be accepted again 30 days from the publication date of this notice in the Federal Register.

Early Notice of Importance of Public Participation in Subsequent Environmental Review:The DEIS is expected to be filed with the Environmental Protection Agency (EPA) and the EPA will publish a notice of availability for the DEIS in the Federal Register. The DEIS is scheduled to be available for public review and comment by approximately March 2009. The comment period on the DEIS will be 45 days from the date the EPA publishes the notice of availability in the Federal Register. The Forest Service believes, at this early stage, it is important to give reviewers notice of several court rulings related to public participation in the environmental review process. First, the reviewers of the draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft EIS. Reviewers may wish to refer to the Council on Environmental Quality Regulations for implementing the procedural provisions of the National Environmental Policy Act at 40 CFR 1503.3 regarding the specificity of comments.

Comments received, including the names and addresses of those who comment, will be considered part of the public record on this proposal and will be available for public inspection.

(Authority: 40 CFR 1501.7 and 1508.22; Forest Service Handbook 1909.15, Section 21)

Dated: September 30, 2008.
Patti Barney,
District Ranger, Bessey Ranger District, Nebraska National Forest.

[FR Doc. E8-24408 Filed 10-14-08; 8:45 am]

BILLING CODE 3410-11-P